FEDERAL MARITIME COMMISSION

Sunshine Act Meeting

TIME AND DATE: September 16, 2020; 10:00 a.m.

PLACE: 800 N Capitol Street NW, First Floor Hearing Room, Washington, DC.

STATUS: Closed.

MATTERS TO BE CONSIDERED:

Closed Session

1. Staff Briefing on Ocean Carrier Rate Trends

2. Staff Briefing on Ocean Carrier Alliances

CONTACT PERSON FOR MORE INFORMATION: Rachel Dickon, Secretary, (202) 523-5725.

Rachel Dickon,
Secretary.

[FR Doc. 2020-20224 Filed 9-9-20; 4:15 pm]

BILLING CODE P